DEPARTMENT OF AGRICULTURE

Office of the Chief Financial Officer

Notice of Request for Approval of a New Information Collection

AGENCY: Office of the Chief Financial Officer, Department of Agriculture.

ACTION: Notice and request for comments.

SUMMARY: This notice announces the intention of the Office of the Chief Financial Officer to request approval for a new information collection for suspension and debarment and drug-free workplace certifications.

DATES: Comments on this notice must be received by January 30, 2015 to be assured of consideration.

ADDRESSES: Comments may be submitted by either/one of the following methods:

• Federal eRulemaking Portal: This Web site provides the ability to type short comments directly into the comment field on this Web page or attach a file for lengthier comments. Go to http://www.regulations.gov. Follow the on-line instructions at that site for submitting comments.

• Postal Mail/Commercial Delivery: Send to Director, Transparency and Accountability Reporting Division, Office of the Chief Financial Officer, Room 3022-S, Stop Code 9011, U.S. Department of Agriculture, 1400 Independence Avenue SW., Washington, DC 20250.

All comments received will be available for public inspection and posted without change, including any personal information, to http://regulations.gov. or during regular business hours at the same address.

FOR FURTHER INFORMATION CONTACT: Tyson P. Whitney, Director, Transparency and Accountability Reporting Division, Office of the Chief Financial Officer, Room 3027-S, Stop Code 9011, U.S. Department of Agriculture, 1400 Independence Avenue SW., Washington, DC 20250; (202) 720-8978; tyson.whitney@cfo.usda.gov.

SUPPLEMENTARY INFORMATION: In accordance with the Paperwork Reduction Act of 1995 (44 U.S.C. Chapter 35), this notice announces the intention of the Office of the Chief Financial Officer to request approval for a new information collection for suspension and debarment and drug-free workplace certifications.

Title: Suspension and Debarment and Drug-Free Workplace Certifications.

OMB Number: 0505-New.

Expiration Date of Approval: Three years from approval date.

Type of Request: New information collection.

Abstract: The information will be collected by USDA Federal financial assistance agencies as certifying information concerning applicant suitability in compliance with Federal Suspension and Debarment and Drug-Free Work Place regulations, as defined by 2 CFR parts 180, 417 and Pub. L. 100-690, Title V, Subtitle D: 41 U.S.C. 8101 et seq., 2 CFR parts 182 and 421. Suspension and debarment is a discretionary or statutory administrative action taken by Federal agencies to protect the government by excluding persons and entities who are not presently responsible from participating in Federal programs or activities. Federal agencies are also prohibited from awarding financial assistance unless conditions are met that speak to recipient awareness of the unlawful manufacture, distribution, dispensation, possession, or use of a controlled substance while conducting any activity with the use of Federal financial assistance. The five forms that USDA will use with its financial assistance applications to collect the data include: (1) AD-1047—Certification Regarding Debarment, Suspension, and Other Responsibility Matters—Primary Covered Transactions; (2) AD-1048—Certification Regarding Debarment, Suspension, Ineligibility and Voluntary Exclusion—Lower Tier Covered Transactions; (3) AD-1049—Certification Regarding Drug Free Workplace Requirements (Grants) Alternative 1 (For Grantees Other Than Individuals; (4) AD 1050—Certification Regarding Drug Free Workplace Requirements (Grants) Alternative 2 (For Grantees Who Are Individuals); and (5) AD-1052—Certification Regarding Drug Free Workplace Requirements-State and State Agencies).

Estimate of Burden: Public reporting burden for this total collection of information is estimated to average 0.25 hours per response per individual form. This burden is assumed for all of the forms in the aggregate.

Type of Respondents: Individuals or private entities; businesses or other for profit; not-for profit; Federal, state, local or tribal governments; institutions of higher education or other research organizations; foreign organizations.

Estimated Number of Respondents: 34,159.

Estimated Number of Responses: 68,318.

Estimated Number of Responses per Respondent: 2.

Estimated Total Annual Burden on Respondents: 17,080.

Form | Number of respondents | Number of responses per respondent | Number of responses | Average time to prepare (hrs) | Total annual burden on respondents (hrs)
AD-1047 | 10,441 | 2 | 20,883 | 0.25 | 5,221
AD-1048 | 10,186 | 2 | 20,372 | 0.25 | 5,093
AD-1049 | 6,156 | 2 | 12,311 | 0.25 | 3,078
AD-1050 | 3,059 | 2 | 6,118 | 0.25 | 1,529
AD-1052 | 4,317 | 2 | 8,635 | 0.25 | 2,159
Total | 34,159 | 2 | 68,318 | 0.25 | 17,080

Comments from interested parties are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Jon M. Holladay,
Chief Financial Officer.

[FR Doc. 2014-28181 Filed 11-28-14; 8:45 am]

BILLING CODE 3410-KS-P